DEPARTMENT OF ENERGY

Methane Hydrate Advisory Committee

AGENCY: Office of Fossil Energy, Department of Energy.

ACTION: Notice of Open Meeting.

SUMMARY: This notice announces a meeting of the Methane Hydrate Advisory Committee. Federal Advisory Committee Act (Pub. L. 92-463, 86 Stat. 770) requires that notice of these meetings be announced in the Federal Register.

DATES: Wednesday, October 12, 2011.

12:30 p.m.-1 p.m. (E.D.T.)—Registration.

1 p.m.-4 p.m. (E.D.T.)—Meeting.

ADDRESSES: U.S. Department of Energy, 1000 Independence Avenue, SW., Washington, DC 20585.

FOR FURTHER INFORMATION CONTACT: Lou Capitanio, U.S. Department of Energy, Office of Oil and Natural Gas, Washington, DC 20585. Phone: (202) 586-5600.

SUPPLEMENTARY INFORMATION: Purpose of the Committee: The purpose of the Methane Hydrate Advisory Committee is to provide advice on potential applications of methane hydrate to the Secretary of Energy, and assist in developing recommendations and priorities for the Department of Energy's Methane Hydrate Research and Development Program.

Tentative Agenda: The agenda will include:

Welcome and Introductions;

Committee Business;

Overview of DOE's Methane Hydrate Program;

Report and discussion on work in Alaska and the Gulf of Mexico;

Report and discussion on International activities;

National Energy Technology Laboratory (NETL)'s Methane Hydrate Fellowship; and

Outreach: National Laboratory, NETL, and Interagency Program aspects.

Public Participation: The meeting is open to the public. The Designated Federal Officer of the Committee will conduct the meeting to facilitate the orderly conduct of business. Individuals who would like to attend must RSVP to Trudy Transtrum, at (202) 586-7253 or by e-mail at: trudy.transtrum@hq.doe.gov, no later than 12 p.m. on Thursday, October 6, 2011. Please provide your name, organization, citizenship, and contact information. Anyone attending the meeting will be required to present government issued identification. Space is limited. If you would like to file a written statement with the Committee, you may do so either before or after the meeting. If you would like to make oral statements regarding any of the items on the agenda, you should contact Trudy Transtrum at the phone number or e-mail listed above. You must make your request for an oral statement at least five business days prior to the meeting, and reasonable provisions will be made to include the presentation on the agenda. Public comment will follow the three-minute rule.

Minutes: Minutes will be available by writing, emailing or calling Trudy Transtrum, U.S. Department of Energy, 1000 Independence Avenue, SW., Washington, DC 20585, or by e-mail at: trudy.transtrum@hq.doe.gov or telephone at: (202) 586-7253.

Issued at Washington, DC, on September 21, 2011.
LaTanya Butler,
Acting Deputy Committee Management Officer.

[FR Doc. 2011-24781 Filed 9-26-11; 8:45 am]

BILLING CODE 6450-01-P